DEPARTMENT OF HOMELAND SECURITY

Coast Guard

33 CFR Part 165

[Docket No. USCG-2015-0169]

RIN 1625-AA00

Cincinnati Reds Season Fireworks; Ohio River Mile 470.1-470.4; Cincinnati, OH

AGENCY: Coast Guard, DHS.

ACTION: Notice of enforcement of regulation.

SUMMARY: The Coast Guard will enforce a safety zone for the Cincinnati Reds Season Fireworks on the Ohio River, from mile marker 470.1 and ending at 470.4, extending 500 feet from the State of Ohio shoreline. This rule is effective during specific home games during the regular baseball season. Should the Cincinnati Reds make the playoffs and have additional home games, the Coast Guard will provide advance notification of enforcement periods via Broadcast Notices to Mariners, Local Notices to Mariners, and/or Marine Safety Information Bulletins as appropriate. This action is needed to protect vessels transiting the area and event spectators from the hazard associated with the Cincinnati Reds Barge-based Fireworks. During the enforcement period, entry into, transiting, or anchoring in the safety zone is prohibited to all vessels not registered with the sponsor as participants or official patrol vessels, unless specifically authorized by the Captain of the Port (COTP) Ohio Valley or a designated representative.

DATES: The regulations in 33 CFR 165.801, Table No. 1, Line no. 2 will be enforced from 9 p.m. through 11:30 p.m. on April 24, May 15, May 29, June 5, June 19, July 3, July 4, July 17, July 31, August 21, September 4, September 11, and September 25, 2015.

FOR FURTHER INFORMATION CONTACT: If you have questions on this notice of enforcement, call or email Kevin Cador, MSD Cincinnati, U.S. Coast Guard at telephone 513-921-9033, email Kevin.L.Cador@uscg.mil.

SUPPLEMENTARY INFORMATION: The Coast Guard will enforce the safety Zone for the Cincinnati Reds Season Fireworks listed in 33 CFR 165.801, Table No. 1, Line no. 2. These regulations can be found in the electronic version of the Code of Federal Regulations, under 33 CFR 165.801( ).

Under the provisions of 33 CFR 165.801, a vessel may not enter the safe zone, unless it receives permission from the COTP Ohio Valley or a designated representative. Persons or vessels desiring to enter into or passage through the safety zone must request permission from the COTP Ohio Valley or designated representative. If permission is granted, all persons and vessels shall comply with the instructions of the COTP Ohio Valley or designated representative.

This notice is issued under authority of 33 CFR 165.801 and 5 U.S.C. 552(a). In addition to this notice in the Federal Register, the Coast Guard will provide the maritime community with extensive advance notification of this enforcement period via the Local Notice to Mariners (LNM) and Broadcast Notice to Mariners (BNM). If the COTP Ohio Valley determines that the regulated area need not be enforced for the full duration stated in the notice, he or she may use a BNM to grant general permission to enter the regulated area.

Dated: March 30, 2015.
R.V. Timme,
Captain, U.S. Coast Guard, Captain of the Port Ohio Valley.

[FR Doc. 2015-09279 Filed 4-20-15; 8:45 am]

BILLING CODE 9110-04-P